DEPARTMENT OF TRANSPORTATION

Federal Railroad Administration

[Docket Number FRA-2012-0071]

Petition for Waiver of Compliance

In accordance with Part 211 of Title 49 Code of Federal Regulations (CFR), this document provides the public notice that by a document dated September 4, 2012, Capital Metropolitan Transportation Authority (CMTY) has petitioned the Federal Railroad Administration (FRA) for a waiver of compliance from certain provisions of the Federal railroad safety regulations at 49 CFR part 222. FRA assigned the petition Docket Number FRA-2012-0071.

CMTY, with the support of the City of Austin, TX, is seeking a waiver from the requirements of 49 CFR 222.21(a) that require CMTY trains to sound their locomotive horn in a specific manner (two long, one short, and one long blast) as they approach and enter public highway-rail grade crossings. Specifically, CMTY requests that it is granted permission to sound the engine bell in lieu of the horn as trains approach the public highway-rail grade crossing at Red River Street (USDOT #765738S). The grade crossing in question is a single-track grade crossing located within yard limits on CMTY. The petition letter indicates that from March 2010 to June 7, 2012, CMTY has operated over 16,000 trains through the Red River intersection without any reported incidents involving trains, pedestrians, or automobiles. CMTY states that it is requesting this waiver to provide noise relief to downtown residents, convention center visitors, the adjacent hotel, and downtown businesses, while maintaining the safety of an audible warning by ringing the bell.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by January 7, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on November 15, 2012.
Robert C. Lauby,
Deputy Associate Administrator for Regulatory and Legislative Operations.

[FR Doc. 2012-28348 Filed 11-20-12; 8:45 am]

BILLING CODE 4910-06-P